DEPARTMENT OF HOUSING AND URBAN DEVELOPMENT

[Docket No. FR-5281-N-27]

Notice of Proposed Information Collection: Comment Request e-Logic Model™ Grant Performance Report Standard

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments Due Date: June 9, 2009.

ADDRESSES: Interested persons are invited to submit comments regarding this proposal. Comments should refer to the proposal by name and/or OMB Control Number (2535-0114) and should be sent to: Lillian L. Deitzer, Departmental Reports Management Officer, QDAM, Department of Housing and Urban Development, 451 Seventh Street, SW., Room 4176, Washington, DC 20410; telephone: 202-402-8048, (this is not a toll-free number) or e-mail Ms. Deitzer at Lillian_L._Deitzer@HUD.gov for a copy of the proposed form and other available information.

FOR FURTHER INFORMATION CONTACT: Barbara Dorf, Office of Departmental Grants Management and Oversight, Office of Departmental and Urban Development, 451 Seventh Street, SW., Washington, DC 20410; e-mail Barbara.Dorf@HUD.gov, telephone 202-402-4637; Fax 202-708-0531 (this is not a toll-free number) for other available information. If you are a hearing-or speech-impaired person, you may reach the above telephone numbers through TTY by calling the toll-free Federal Information Relay Service at 1-800-877-8339.

SUPPLEMENTARY INFORMATION: The Department will submit the proposed information collection to OMB for review, as required by the Paperwork Reduction Act of 1995 (44 U.S.C. Chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: e-Logic Model™ Grant Performance Report Standard

OMB Control Number, if applicable: 2535-0114.

Description of the need for the information and proposed use: Applicants of HUD Federal Financial Assistance are required to indicate intended results and impacts. Grant recipients report against their baseline performance standards. This process standardizes grants progress reporting requirements and promotes greater emphasis on performance and results in grant programs.

Agency form numbers, if applicable: HUD-96010, HUD 96010-NN, HUD-96010-CD-TA, HUD-96010-ROSS, HUD-96010-PH-FSS, HUD-96010-HOPWA, HUD-96010-HCV-FSS, HUD-96010-BEDI, HUD-96010-HC, HUD-96010-Coc, HUD-96010-HSIAC, HUD-96010-HH-LLTS, HUD-96010-RHED, HUD-96010-SHOP, HUD-96010-Housing Counseling, HUD-96010-Sec.202, HUD-96010-Sec. 811, HUD-96010-ICDBG, HUD-96010-Service Coordinator, HUD-96010-Fair Housing, PEI, HUD-96010-Fair Housing EOI, HUD-96010-Youthbuild, HUD-96010-TCUP, HUD-96010-96010-PHNN, HUD-96010-LOGP, HUD-96010-HH Demo, HUD-96010-HBCU, HUD-96010-ANNHIAC, HUD-96010-HOPE VI.

Members of Affected Public: Business or other for-profit, not-for-profit institutions, State, Local or Tribal government.

Estimation of the total number of hours needed to prepare the information collection including number of respondents, frequency of response, and hours of response: An estimation of the total numbers of hours needed to prepare the Information collection is 109,175, number of respondents is 11,000, frequency of response is “on occasion,” and the hours per response is 9.9 hours.

Status of the proposed information collection: Extension of a currently approved collection.

Authority: Section 3506 of the Paperwork Reduction Act of 1995, 44 U.S.C. Chapter 35, as amended.

Dated: April 3, 2009.
Stephen A. Hill,
Director, Policy and E-GOV, Office of the Chief Information Officer.

[FR Doc. E9-8185 Filed 4-9-09; 8:45 am]

BILLING CODE 4210-67-P